INTERNATIONAL TRADE COMMISSION

Revised Access to the Law Library

AGENCY: U.S. International Trade Commission.

ACTION: Notice concerning revised access to the Law Library.

SUMMARY: The United States International Trade Commission (Commission) is issuing this notice to advise the public that the agency's Law Library will no longer be open to walk-in customers, but will be accessible by providing advance notice by telephone after a period of renovation.

DATES: The Law Library will be closed to the public during its renovation from June 12 through August 11, 2006. Members of the public will be able to gain access to the Law Library by providing advance notice to Law Library staff starting approximately August 14, 2006.

ADDRESSES: The Commission's Law Library is located in suite 614, U.S. International Trade Commission Building, 500 E Street, SW., Washington, DC 20436.

FOR FURTHER INFORMATION CONTACT: Mr. Steven Kover, Law Librarian, or Ms. Maureen Bryant, Law Librarian, U.S. International Trade Commission, telephone 202-205-3287. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov).

SUPPLEMENTARY INFORMATION: Currently, the Commission's Law Library is open to walk-in customers. The Commission will shortly begin renovating the Law Library and adjacent areas to optimize the use of space. During the renovation period, which is expected to last from June 12, 2006 through August 11, 2006, the Law Library will be closed to the public. The Law Library staff will be available for telephonic consultation at 202-205-3287 during this time, but customers are advised that the staff will only be able to provide limited assistance.

In conjunction with the renovation, the Commission has determined that security concerns dictate restricting access to the Law Library. As of approximately August 14, 2006, members of the public will be able to gain entry only by providing advance telephone notice to the Law Library staff.

The change in Law Library access policy does not affect the Commission's Main Library/Knowledge Resources in suite 300 of the U.S. International Trade Commission Building.

By order of the Commission.
Marilyn R. Abbott,
Secretary to the Commission.

[FR Doc. E6-9206 Filed 6-9-06; 8:45 am]

BILLING CODE 7020-02-P